DEPARTMENT OF TRANSPORTATION

Federal Highway Administration

Notice of Final Federal Agency Actions of Proposed Highway in California

AGENCY: Federal Highway Administration (FHWA), Department of Transportation (DOT).

ACTION: Notice of limitation on claims for judicial review of actions by the California Department of Transportation (Caltrans).

SUMMARY: The FHWA, on behalf of Caltrans, is issuing this notice to announce actions taken by Caltrans that are final. The actions relate to a proposed highway project (Interstate 405 [I-405]) from Interstate 5 (I-5) to State Route 55 [SR-55]) in the Cities of Irvine and Costa Mesa, in the County of Orange, State of California. Those actions grant licenses, permits, and approvals for the project.

DATES: By this notice, the FHWA, on behalf of Caltrans, is advising the public of final agency actions subject to 23 U.S.C. 139(l)(1). A claim seeking judicial review of the Federal agency actions on the highway project will be barred unless the claim is filed on or before April 26, 2019. If the Federal law that authorizes judicial review of a claim provides a time period of less than 150 days for filing such claim, then that shorter time period applies.

FOR FURTHER INFORMATION CONTACT: For Caltrans: Smita Deshpande, Branch Chief, Generalist Branch—Division of Environmental Analysis, Caltrans District 12; 1750 East 4th Street, Suite 100, Santa Ana, CA 92705, 8:00 a.m. to 5:00 p.m., (657) 328-6151, smita.deshpande@dot.ca.gov.

SUPPLEMENTARY INFORMATION: Effective July 1, 2007, FHWA assigned, and Caltrans assumed, environmental responsibilities for this project pursuant to 23 U.S.C. 327. Notice is hereby given that Caltrans has taken final agency actions subject to 23 U.S.C. 139(l)(1) by issuing licenses, permits, and approvals for the following highway project in the State of California: Caltrans proposes to add a single general-purpose lane in the northbound and southbound direction of the highway, approximately 8.5 miles. The purpose of the project is to add mainline capacity, reduce corridor congestion, improve mobility, improve ramp capacity and operations, and improve freeway operations including weaving, merging, and diverging. The actions by the Federal agencies, and the laws under which such actions were taken, are described in the Environmental Assessment (EA) with a Finding of No Significant Impact (FONSI), approved on August 17, 2018. The EA with FONSI, and other documents are available by contacting Caltrans at the address provided above. The Caltrans EA with FONSI can be viewed and downloaded from the project website at http://www.dot.ca.gov/d12/DEA/405/0K710. The notice applies to all Federal agency decisions as of the issuance date of this notice and all laws under which such actions were taken, including but not limited to:

1. Council on Environmental Quality regulations;

2. National Environmental Policy Act (NEPA);

3. Moving Ahead for Progress in the 21st Century Act (MAP-21);

4. Department of Transportation Act of 1966;

5. Federal Aid Highway Act of 1970;

6. Clean Air Act Amendments of 1990;

7. Noise Control Act of 1970;

8. 23 CFR part 772 FHWA Noise Standards, Policies and Procedures;

9. Department of Transportation Act of 1966, Section 4(f);

10. Clean Water Act of 1977 and 1987;

11. Endangered Species Act of 1973;

12. Migratory Bird Treaty Act;

13. National Historic Preservation Act of 1966, as amended;

14. Historic Sites Act of 1935;

15. Executive Order 13112, Invasive Species; and

16. Title VI of the Civil Rights Act of 1964.

(Catalog of Federal Domestic Assistance Program Number 20.205, Highway Planning and Construction. The regulations implementing Executive Order 12372 regarding intergovernmental consultation on Federal programs and activities apply to this program.)

Authority: 23 U.S.C. 139(l)(1).

Dated: November 19, 2018.
Matthew Schmitz,
Director, Project Delivery, Federal Highway Administration, Sacramento, California.

[FR Doc. 2018-25878 Filed 11-26-18; 8:45 am]

BILLING CODE 4910-RY-P